DEPARTMENT OF COMMERCE

Clean Energy Technologies Trade Mission, India and China, April 18-25, 2007

AGENCY: International Trade Administration, Commerce.

ACTION: Notice.

SUMMARY: The International Trade Administration of the United States Department of Commerce is organizing a Clean Energy Technologies Trade Mission to India and China, April 18-25, 2007, to be led by Assistant Secretary of Commerce for Market Access and Compliance, David Bohigian. The trade mission will target a broad range of clean energy technologies such as renewable energy, energy efficiency, clean coal, and distributed generation. This mission takes place within the context of the Asia-Pacific Partnership on Clean Development and Climate, a public-private partnership in which member countries work together to facilitate commercial deployment of technologies that reduce greenhouse gas emissions and enhance energy security. The goal of the mission is to match participating U.S. companies with prescreened partner agents, distributors, representatives, licensees or retailers in each of these important sectors. The mission will include meetings with national and local government officials, networking opportunities, one-on-one business meetings, country briefings by experts, and site visits.

DATES: Recruitment will begin immediately and will close on March 19, 2007.

The Trade Mission will take place April 18-25, 2007.

FOR FURTHER INFORMATION CONTACT: Frank Caliva, U.S. Commercial Service—U.S. Department of Commerce, E-mail: frank.caliva@mail.doc.gov, Telephone: 202-482-8245, Mission Web site: http://www.export.gov/cleanenergymission.

SUPPLEMENTARY INFORMATION:

Commercial Setting

India: With the rapid growth of its economy, demand for energy in India far exceeds its growth in supply. Rising energy prices, worsening pollution problems, and energy security risks have created a critical need for investments in clean energy. The Government of India has prioritized the development of renewable energy. The following factors support the growth of the Indian renewables sector: the large demand-supply gap in electricity; abundant renewable energy resources (solar, wind, biomass, and hydro); low gestation periods for establishing renewables projects; conducive government policies; availability of numerous financing options for capital equipment; and increasing industry awareness of the benefits of environmental responsibility. The market in India for renewable energy is estimated to be worth $500 million, and is growing at an annual rate of 15 percent, creating strong and diverse business prospects for U.S. renewable energy companies.

As the seat of the national government, New Delhi is also the principal end-user of clean energy technology fulfilling the Government of India's directives on nation-wide deployment of renewables. In many cases, the Government of India provides incentives to promote the installation of renewable energy generation projects. New Delhi is also one of India's largest metropolitan areas and is in dire need of power generation and environmental quality improvements. The city's size makes it an attractive market for large investments in clean energy projects from solid and liquid wastes, the utilization of which for the purposes of energy production is a key national priority.

Chennai is the capital of Tamil Nadu, and in addition to being one of the top five Indian states in terms of foreign direct investment, it has the distinction of being a leader in wind energy. The state has also taken a lead role in India in promoting solar air heating technology. Taking advantage of the state government's investments in renewable energy, India's first-of-its kind special economic zone (SEZ) for manufacturing and testing of non-conventional energy equipment is set to open soon in Chennai. The project is expected to attract an investment of $65-$90 million over the next four years and will encompass over 1,000 acres. Chennai is also the location of the Center for Wind Energy Technology, a research institute active in all aspects of wind energy.

China: Due to rapidly increasing energy demand and the desire to expand the use of non-fossil fuels, the Chinese government is targeting the development of clean energy technologies in its current 11th Five Year Plan. Emphasized sectors include clean coal technologies, wind power, solar power, and biomass.

Beijing is unique in China in that it is a city with provincial status, enabling its municipal government to approve independent foreign investment projects up to a value of $30 million. This has positioned Beijing as an attractive location for foreign investment in China. As the national capital, Beijing offers unparalleled access to meet with Chinese policymakers. There is a strong market for clean energy technologies in Beijing, due to its size and economic importance. The selection of the city as the host of the 2008 Summer Olympic Games has spurred substantial government investment in projects that improve environmental quality.

Nanjing (population 5,000,000), a few hours from Shanghai along the Yangtze River, is one of China's most developed cities. Power and energy are among the city's core industries. The city hosts one of China's largest trade fairs on renewable/clean energy and is currently undertaking a prominent provincial-level project to create an efficient power plant. The project is intended to achieve energy conservation and efficiency by implementing new technologies, and is rooted in demand-side management familiar to U.S. companies. The utilization of clean, renewable energy and energy efficiency are crucial components of the project.

Mission Goals: The Trade Mission's goal is to facilitate market entry or increased sales into these significant markets for U.S. clean technologies firms, as well to assist the mission participants in gaining first-hand market information and access to key government officials and potential business partners.

Mission Scenario: In India and China, the International Trade Administration will:

• Provide a market briefing highlighting opportunities in the clean technologies sectors.

• Schedule one-on-one appointments with potential business partners for each participant.

• Provide a venue for the one-on-one appointments and provide interpreters as needed.

• Provide networking opportunities with the private and public sectors.

• Organize relevant site visits.

Proposed Mission Timetable

Tuesday, April 17, 2007

Arrive in Chennai

Wednesday, April 18, 2007

Business appointments in Chennai

Evening reception

Thursday, April 19, 2007

Site visit, additional appointments in Chennai

Afternoon flight to New Delhi

Evening reception in New Delhi

Friday, April 20, 2007

Business appointments in New Delhi

Saturday, April 21, 2007

Free day in New Delhi

Evening flight to Beijing

Sunday, April 22, 2007

Free day in Beijing

Monday, April 23, 2007

Business appointments in Beijing

Evening reception in Beijing

Tuesday, April 24, 2007

Site visit in a.m.

Afternoon flight to Nanjing

Evening reception in Nanjing

Wednesday, April 25, 2007

Business appointments in Nanjing

Conclusion of trade mission

(It is possible for companies to participate in one or both countries of this trade mission.)

Criteria for Participation

• Relevance of the company's business line to the mission scope and goals.

• Potential for business in the selected markets.

• Timeliness of the company's completed application, participation agreement, and payment of the mission participation fee.

• Provision of adequate information on the company's products and/or services and communication of the company's primary objectives to facilitate appropriate matching with potential business partners.

• Certification that the company's products and/or services are manufactured or produced in the United States or if manufactured/produced outside of the United States, the product/service must be marketed under the name of a U.S. firm and have U.S. content representing at least 51 percent of the value of the finished good or service.

• Diversity of sectors represented.

Any partisan political activities of an applicant, including political contributions, will be entirely irrelevant to the selection process.

The mission will be promoted through the following venues: ITA's Export Assistance Centers, the Energy Team, the Asia Pacific Team, the Africa, Near East, and South Asia Team, Global Trade Programs; the Trade Events List http://www.export.gov; industry newsletters; the Federal Register; the Asia-Pacific Partnership for Clean Development and Climate; relevant trade publications; relevant trade associations; past Commerce trade mission participants; various in-house and purchased industry lists; and on the Commerce Department trade missions calendar: http://www.ita.doc.gov/doctm/tmcal.html.

Recruitment will begin immediately and will close on March 19, 2007. Qualified U.S. companies/applicants will be selected on a rolling basis. The trade mission participation fee will be U.S. $4,900 per company. (If a company would like to participate in just the India portion or just the China portion of the trade mission, the participation fee will be $2,450.) There will be an additional fee of $750 per country for each additional participant a company sends. The participation fee does not include the cost of travel, lodging, ground transportation, or some meals. Participation is open to 20 qualified U.S. companies. Applications received after that date will be considered only if space and scheduling constraints permit.

Dated: January 30, 2007.
David Bohigian,
Assistant Secretary of Commerce for Market Access & Compliance.

[FR Doc. E7-1713 Filed 2-1-07; 8:45 am]

BILLING CODE 3510-DA-P